DEPARTMENT OF HEALTH AND HUMAN SERVICES

Centers for Disease Control and Prevention

Advisory Committee to the Director (ACD), Centers for Disease Control and Prevention (CDC)—Health Disparities Subcommittee (HDS)

AGENCY: Centers for Disease Control and Prevention (CDC), Department of Health and Human Services (HHS).

ACTION: Notice of meeting.

SUMMARY: In accordance with the Federal Advisory Committee Act, the Centers for Disease Control and Prevention (CDC) announces the following meeting of the Advisory Committee to the Director, Centers for Disease Control and Prevention—Health Disparities Subcommittee (ACD, CDC-HDS). This meeting is open to the public, limited only by the room that accommodates 45 people and audio phone line that accommodates 50 callers. The public is also welcome to listen to the meeting by dialing 866-918-8397 and enter code 9346283, this conference line is available to the first 50 callers. The public comment period is from 9:45 a.m. to 9:50 a.m. and 3:45 p.m. to 3:55 p.m. The deadline to register for in-person attendance and/or notice of intent to make oral or written comment is October 30, 2017. To register, please send an email to ACDirector@cdc.gov.

DATES: The meeting will be held on November 9, 2017, 8:30 a.m. to 4:00 p.m. ET.

ADDRESSES: CDC, Building 21, 12th Floor, Rooms 12105-12101, 1600 Clifton Road NE., Atlanta, Georgia 30329.

Bridge line: 866-918-8397 and enter code 9346283.

FOR FURTHER INFORMATION CONTACT: Leandris Liburd, Ph.D., M.P.H., M.A., Designated Federal Officer, Health Disparities Subcommittee, Advisory Committee to the Director, CDC, 1600 Clifton Road NE., M/S K-77, Atlanta, Georgia 30329. Telephone (404) 498-6482, Email: ACDirector@cdc.gov.

SUPPLEMENTARY INFORMATION:

Purpose: The Subcommittee will provide counsel to ACD, CDC on strategic and other health disparities and health equity issues and provide guidance on opportunities for CDC.

Matters to be Considered: The Health Disparities Subcommittee Agenda will include discussions on addressing health disparities in achieving the agency's overarching health impact goals including selected observations from the HDS for the ACD, CDC to consider, and on progress of the HDS, and on progress toward activities related to data disaggregation and childhood trauma. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-19779 Filed 9-15-17; 8:45 am]

BILLING CODE 4163-18-P